COMMISSION ON CIVIL RIGHTS

Notice of Public Meeting of the Illinois Advisory Committee for a Meeting on Discussing the Project Proposal on Hate Crimes in Illinois and a Briefing on Religious Discrimination in Prisons

AGENCY: U.S. Commission on Civil Rights.

ACTION: Notice of meeting.

SUMMARY: Notice is hereby given, pursuant to the provisions of the rules and regulations of the U.S. Commission on Civil Rights (Commission) and the Federal Advisory Committee Act that the Illinois Advisory Committee (Committee) will hold a meeting on Thursday, June 12, 2014, for the purpose of discussing and voting on a project proposal regarding hate crimes in Illinois and for gathering information and hearing statements regarding religious discrimination in Illinois prisons. The Committee will have the proposal presented by the Commission's two Midwestern Regional Office interns and discuss the proposal afterward. The Committee also will hear testimony from the chief chaplain of the state's Department of Corrections to update information the Committee had obtained on the topic in 2007. The testimony presented at this meeting will provide in part a basis for the Committee's final recommendations on the topic.

Members of the public are invited and welcomed to make statements into the record at the meeting starting at 3:30 p.m. Members of the public who cannot attend in person can listen to the discussion. This meeting is available to the public through the following toll-free call-in number: 888-438-5535, conference ID: 9306519. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by July 12, 2014. Written comments may be mailed to the Midwestern Regional Office, U.S. Commission on Civil Rights, 55 W. Monroe St., Suite 410, Chicago, IL 60615. They may also be faxed to the Commission at (312) 353-8311, or emailed to Administrative Assistant, Carolyn Allen at callen@usccr.gov. Persons who desire additional information may contact the Midwestern Regional Office at (312) 353-8311.

Hearing-impaired persons who will attend the meeting and require the services of a sign language interpreter should contact the Midwestern Regional Office at least ten (10) working days before the scheduled date of the meeting.

Records generated from this meeting may be inspected and reproduced at the Midwestern Regional Office, as they become available, both before and after the meeting. Records of the meeting will be available via www.facadatabase.gov under the Commission on Civil Rights, Illinois Advisory Committee link. Persons interested in the work of this Committee are directed to the Commission's Web site, http://www.usccr.gov, or may contact the Midwestern Regional Office at the above email or street address.

Agenda:

Welcome and Introductions

12:00 p.m. to 12:10 p.m.

Barbara Abrajano, Chairman, Illinois Advisory Committee

Discussion of Hate Crime Project Proposal

12:10 p.m. to 2:00 p.m.

Changho Kim, USCCR intern

Mrinalini Penumaka, USCCR intern

Illinois Advisory Committee

Briefing on Religious Discrimination in Prisons

2:00 p.m. to 3:00 p.m.

IL Department of Correction Chief Chaplain Stephen Keim

Business Meeting

3:00 p.m. to 3:30 p.m.

Open Session

3:30 p.m. to 4:00 p.m.

Adjournment

4:00 p.m.

DATES: The meeting will be held on Thursday, June 12, 2014, at 12:00 p.m.

ADDRESSES: The meeting will be held at the University of Chicago Law School, 1111 E. 60th St., Classroom VI, Chicago, IL 60637.

Dated: May 23, 2014.
David Mussatt,
Acting Chief, Regional Programs Coordination Unit.

[FR Doc. 2014-12532 Filed 5-29-14; 8:45 am]

BILLING CODE 6335-01-P